DEPARTMENT OF COMMERCE

International Trade Administration

[A-475-840]

Forged Steel Fluid End Blocks From Italy: Preliminary Results and Rescission in Part of Antidumping Duty Administrative Review; 2022

AGENCY: Enforcement and Compliance, International Trade Administration, Department of Commerce.

SUMMARY: The U.S. Department of Commerce (Commerce) preliminarily finds that certain producers/exporters subject to this administrative review made sales of subject merchandise at less than normal value (NV) during the period of review (POR) January 1, 2022, through December 31, 2022. We are rescinding this administrative review, in part, with respect to 20 companies. We invite interested parties to comment on these preliminary results.

DATES: Applicable February 6, 2024.

FOR FURTHER INFORMATION CONTACT: Allison Hollander or Claudia Cott, AD/CVD Operations, Office I, Enforcement and Compliance, International Trade Administration, U.S. Department of Commerce, 1401 Constitution Avenue NW, Washington, DC 20230; telephone: (202) 482-2805 or (202) 482-4270, respectively.

SUPPLEMENTARY INFORMATION:

Background

On January 29, 2021, Commerce published in the Federal Register the antidumping duty order on forged steel fluid end blocks (fluid end blocks) from Italy.¹ On March 14, 2023, Commerce published in the Federal Register the notice of initiation of the administrative review of the Order.² On May 19, 2023, Commerce selected Lucchini Mamé Forge S.p.A.³ and Cogne Acciai Speciali S.p.A. for individual examination as mandatory respondents in this administrative review.⁴ On September 6, 2023, Commerce extended the time limit for these preliminary results to January 31, 2024.⁵ For a complete description of the events that occurred since the initiation of the administrative review, see the Preliminary Decision Memorandum.⁶

¹ See Forged Steel Fluid End Blocks from the Federal Republic of Germany and Italy: Amended Final Antidumping Duty Determination for the Federal Republic of Germany and Antidumping Duty Orders, 86 FR 7528 (January 29, 2021) (Order).

² See Initiation of Antidumping and Countervailing Duty Administrative Reviews, 88 FR 15642 (March 14, 2023).

³ We preliminarily find that Lucchini Mamé Forge S.p.A. (LMA) is affiliated with Lucchini Industries S.r.l. (LIND) and Lucchini RS S.p.A. (LRS) (LMA, LIND, and LRS are collectively referred to as Lucchini).

⁴ See Memorandum, “Respondent Selection,” dated May 19, 2023.

⁵ See Memorandum, “Extension of Deadline for Preliminary Results of Antidumping Duty Administrative Review; 2022,” dated September 6, 2023.

⁶ See Memorandum, “Decision Memorandum for the Preliminary Results of the Administrative Review of the Antidumping Duty Order on Forged Steel Fluid End Blocks from Italy; 2022,” dated concurrently with, and hereby adopted by, this notice (Preliminary Decision Memorandum).

A list of the topics discussed in the Preliminary Decision Memorandum is attached as the Appendix I of this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Scope of the Order

The merchandise subject to the Order are fluid end blocks from Italy. For a complete description of the scope of the Order, see the Preliminary Decision Memorandum.

Rescission of Administrative Review, in Part

Pursuant to 19 CFR 351.213(d)(3), Commerce will rescind an administrative review when there are no reviewable suspended entries. Based on our analysis of U.S. Customs and Border Protection (CBP) information, we preliminarily determine that 20 companies had no entries of subject merchandise during the POR. On January 9, 2024, we notified parties of our intent to rescind this administrative review with respect to the 20 companies that have no reviewable suspended entries.⁷ No parties commented on our intent to rescind the review, in part. Therefore, we are rescinding the administrative review for the 20 companies listed in Appendix II of this notice.

⁷ See Memorandum, “Intent to Rescind Review, in Part,” dated January 9, 2024.

Methodology

Commerce is conducting this review in accordance with section 751(a) of the Tariff Act of 1930, as amended (the Act). We calculated export prices and NV in accordance with sections 772 and 773 of the Act, respectively. For a full description of the methodology underlying our conclusions, see the Preliminary Decision Memorandum.

Rate for Non-Examined Companies

The statute and Commerce's regulations do not address the establishment of a rate to be applied to companies not selected for individual examination when Commerce limits its examination in an administrative review pursuant to section 777A(c)(2) of the Act. Generally, Commerce looks to section 735(c)(5) of the Act, which provides instructions for calculating the all-others rate in an investigation of sales at less than fair value (LTFV), for guidance when calculating the weighted-average dumping margin for companies which were not selected for individual examination in an administrative review.

Under section 735(c)(5)(A) of the Act, the all-others rate is normally “an amount equal to the weighted average of the estimated weighted-average dumping margins established for exporters and producers individually investigated, excluding any zero or de minimis margins, and any margins determined entirely {on the basis of facts available}.” We preliminarily calculated a dumping margin for Lucchini that is not zero, de minimis, or determined entirely on the basis of facts available. Accordingly, we preliminarily assigned a margin of 1.41 percent based on Lucchini's calculated weighted-average dumping margin to the sole non-selected respondent, Officine Meccaniche Roselli S.r.l.

Preliminary Results of Review

Commerce preliminarily determines that the following estimated weighted-average dumping margins exist for the period January 1, 2022, through December 31, 2022:

Producer/exporter | Weighted- average dumping margin (percent)
Lucchini Mamé Forge S.p.A.; Lucchini Industries S.r.l.; Lucchini RS S.p.A | 1.41
Cogne Acciai Speciali S.p.A | 0.00
Officine Meccaniche Roselli S.r.l | 1.41

Disclosure and Public Comment

We intend to disclose the calculations performed for these preliminary results to interested parties within five days after the date of publication of this notice.⁸ Pursuant to 19 CFR 351.309(c)(1)(ii), interested parties may submit case briefs to Commerce no later than 30 days after the date of publication of this notice. Rebuttal briefs, limited to issues raised in the case briefs, may be filed not later than five days after the date for filing case briefs.⁹ Interested parties who submit case briefs or rebuttal briefs in this administrative review must submit: (1) a table of contents listing each issue; and (2) a table of authorities.¹⁰

⁸ See 19 CFR 351.224(b).

⁹ See 19 CFR 351.309(d)(1); see also Administrative Protective Order, Service, and Other Procedures in Antidumping and Countervailing Duty Proceedings, 88 FR 67069, 67077 (September 29, 2023) (APO and Final Service Rule).

¹⁰ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹¹ Further, we request that interested parties limit their executive summary of each issue to no more than 450 words, not including citations. We intend to use the executive summaries as the basis of the comment summaries included in the issues and decision memorandum that will accompany the final results in this administrative review. We request that interested parties include footnotes for relevant citations in the executive summary of each issue.

¹¹ We use the term “issue” here to describe an argument that Commerce would normally address in a comment of the Issues and Decision Memorandum.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in case and rebuttal briefs.

All submissions, including case and rebuttal briefs, as well as hearing requests, should be filed using ACCESS.¹² An electronically filed document must be received successfully in its entirety by ACCESS by 5:00 p.m. Eastern Time on the established deadline. Note that Commerce has amended certain of its requirements pertaining to the service of documents in 19 CFR 351.303(f).¹³

¹² See 19 CFR 351.303.

¹³ See APO and Final Service Rule.

Final Results of Review

Unless otherwise extended, Commerce intends to issue the final results of this administrative review, including the results of its analysis of issues raised in written briefs, no later than 120 days after the date of publication of this notice in the Federal Register, pursuant to 751(a)(3)(A) of the Act and 19 CFR 351.213(h)(1).

Assessment Rates

Upon completion of the final results of this administrative review, pursuant to section 751(a)(2)(A) of the Act, Commerce shall determine and U.S. Customs and Border Protection (CBP) shall assess antidumping duties on all appropriate entries of subject merchandise covered by this review.¹⁴

¹⁴ See 19 CFR 351.212(b)(1).

If an examined respondent's weighted-average dumping margin is not zero or de minimis (i.e., less than 0.5 percent) in the final results of this review, we intend to calculate an importer-specific assessment rate for antidumping duties based on the ratio of the total amount of dumping calculated for each importer's examined sales and the total entered value of those same sales in accordance with 19 CFR 351.212(b)(1). For the companies identified above that were not selected for individual examination, we will instruct CBP to assess antidumping duties at a rate equal to the weighted-average dumping margin established in the final results of review. If the respondent's weighted-average dumping margin or an importer-specific assessment rate is zero or de minimis in the final results of this review, we intend to instruct CBP to liquidate the appropriate entries without regard to antidumping duties.

For entries of subject merchandise during the POR produced by either of the individually examined respondents for which they did not know that the merchandise was destined for the United States, we will instruct CBP to liquidate these entries at the all-others rate if there is no rate for the intermediate company(ies) involved in the transaction.¹⁵

¹⁵ See Antidumping and Countervailing Duty Proceedings: Assessment of Antidumping Duties, 68 FR 23954 (May 6, 2003).

For the companies for which this review is rescinded with these preliminary results, we will instruct CBP to assess antidumping duties on all appropriate entries at a rate equal to the cash deposit of estimated antidumping duties required at the time of entry, or withdrawal from warehouse, for consumption, during the period January 1, 2022, through December 31, 2022, in accordance with 19 CFR 351.212(c)(l)(i). Commerce intends to issue assessment instructions to CBP no earlier than 35 days after the date of publication of the final results of this review in the Federal Register. If a timely summons is filed at the U.S. Court of International Trade, the assessment instructions will direct CBP not to liquidate relevant entries until the time for parties to file a request for a statutory injunction has expired, i.e., within 90 days of publication.

The final results of this administrative review shall be the basis for the assessment of antidumping duties on entries of merchandise covered by the final results of this review and for future deposits of estimated duties, where applicable.¹⁶

¹⁶ See section 751(a)(2)(C) of the Act.

Cash Deposit Requirements

The following cash deposit requirements will be effective for all shipments of the subject merchandise entered, or withdrawn from warehouse, for consumption on or after the publication date of the final results of this administrative review, as provided by section 751(a)(2)(C) of the Act: (1) the cash deposit rate for the companies listed above will be that established in the final results of this review, except if the rate is less than 0.50 percent and, therefore, de minimis within the meaning of 19 CFR 351.106(c)(1), in which case the cash deposit rate will be zero; (2) for previously investigated or reviewed companies not covered in this review, the cash deposit rate will continue to be the company-specific cash deposit rate published for the most recently completed segment of this proceeding in which the company participated; (3) if the exporter is not a firm covered in this review, a prior review, or the investigation of sales at LTFV, but the producer is, then the cash deposit rate will be the rate established for the most recently completed segment of this proceeding for the producer of the merchandise; and (4) the cash deposit rate for all other producers or exporters will continue to be 7.33 percent, the all-others rate established in the LTFV investigation.¹⁷ These cash deposit requirements, when imposed, shall remain in effect until further notice.

¹⁷ See Order, 86 FR at 7530.

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties, and/or an increase in the amount of antidumping duties by the amount of countervailing duties.

Notification to Interested Parties

We are issuing and publishing these preliminary results in accordance with sections 751(a)(1) and 777(i)(1) of the Act, and 19 CFR 351.221(b)(4).

Dated: January 31, 2024.
Abdelali Elouaradia,
Deputy Assistant Secretary, for Enforcement and Compliance.

Appendix I

List of Topics Discussed in the Preliminary Decision Memorandum

I. Summary

II. Background

III. Scope of the Order

IV. Rescission of Administrative Review, in Part

V. Rate for Non-Selected Respondent

VI. Affiliation and Collapsing

VII. Discussion of the Methodology

VIII. Recommendation

Appendix II

Companies Rescinded From This Administrative Review

1. Acciaierie Bertoli Safau S.p.A.

2. ASFO S.p.A.

3. Ellena S.p.A.

4. Fomas S.p.A.

5. Forge Monchieri S.p.A.

6. Forgiatura Morandini S.r.l.

7. Forgital Italy S.p.A.

8. Galperti Group

9. IMER International S.p.A.

10. I.M.E.S. S.p.A.

11. Industria Meccanica e Stampaggio S.p.A.

12. Mimest S.p.A.

13. Ofar S.p.A.

14. Officine Galperti S.p.A.

15. P. Technologies S.r.l.

16. Poclain Hydraulics Indistriale S.r.l.

17. Poppi Ugo Euroforge S.p.A.

18. Riganti S.p.A.

19. Ringmill S.p.A.

20. Siderforgerossi Group S.p.A.

[FR Doc. 2024-02391 Filed 2-5-24; 8:45 am]

BILLING CODE 3510-DS-P